DEPARTMENT OF JUSTICE

Executive Office for Immigration Review

8 CFR Parts 1003 and 1208

[Docket No. EOIR 140I]

RIN 1125-AA44

Background and Security Investigation in Proceedings Before Immigration Judges and the Board of Immigration Appeals

AGENCY: Executive Office for Immigration Review, Justice.

ACTION: Interim rule; extension of comment period.

SUMMARY: On January 31, 2005, the United States Department of Justice, Executive Office for Immigration Review, published an interim rule to implement regulations covering Background and Security Investigations in Proceedings Before Immigration Judges and the Board of Immigration Appeals. The EOIR is extending the comment period for an additional 30-day period.

DATES: Comments must be received on or before May 2, 2005.

ADDRESSES: Please submit written comment to MaryBeth Keller, General Counsel, Executive Office for Immigration Review (EOIR), 5107 Leesburg Pike, Suite 2600, Falls Church, Virginia 22041. To ensure proper handling, please reference RIN No. 1125-AA44 or EOIR Docket No. 140I on your correspondence. You may view an electronic version of this rule at http://www.regulations.gov. You may also comment via the Internet to EOIR at eoir.regs@usdoj.gov or by using the http://www.regulations.gov comment form for this regulations. When submitting comments electronically, you must include the RIN No. 1125-AA44 or EOIR Docket No. 140I in the subject box. Comments are available for public inspection at the above address by calling (703) 305-0470 to arrange for an appointment.

FOR FURTHER INFORMATION CONTACT: MaryBeth Keller, General Counsel, Executive Office for Immigration Review, 5107 Leesburg Pike, Suite 2600, Falls Church, Virginia 22041, telephone (703) 305-1041.

SUPPLEMENTARY INFORMATION: On January 31, 2005, the Department of Justice (Department), Executive Office for Immigration Review (EOIR), published an interim rule that amends regulations governing removal and other proceedings before immigration judges and the Board of Immigration Appeals when a respondent has applied for particular forms of immigration relief allowing the alien to remain in the United States (including, but not limited to asylum, adjustment of status to that of a lawful permanent resident, cancellation of removal, and withholding of removal), in order to ensure that the necessary identity, law enforcement, and security investigations are promptly initiated and have been completed by the Department of Homeland Security prior to the granting of such relief. See 70 FR 4743.

It has come to the attention of the Department and EOIR that the Internet options for submitting e-mail comments to the interim rule during the original 60-day comment period originally provided with publication of the interim rule did not consistently function. Commenters seeking to submit e-mail comments via http://www.regulations.gov received an automatic message instructing the commenter to print out and submit written comments. Further, in several cases, comments e-mailed directly to EOIR at eoir.regs@usdoj.gov resulted in “undeliverable” return receipts being sent to the comment sender. EOIR has now resolved this technical problem with its regulations comment e-mail box.

Despite these difficulties with the electronic comment filing options, the ability to submit written comments to EOIR throughout this period of time via the United States mail was unaffected.

However, to ensure that the public has been provided an adequate opportunity to comment on the interim rule, EOIR is extending the public comment period by 30 days. The extension of the public comment period does not affect the effective date of the interim rule, which remains April 1, 2005. Commenters who submitted comments electronically prior to April 1, 2005, are encouraged to resubmit comments electronically or by mail.

Accordingly, EOIR is extending the comment period and will accept public comments until May 2, 2005.

Dated: March 28, 2005.
Kevin D. Rooney,
Director, Executive Office for Immigration Review.

[FR Doc. 05-6428 Filed 3-29-05; 8:45 am]

BILLING CODE 4410-30-M